ENVIRONMENTAL PROTECTION AGENCY

[EPA-HQ-OAR-2016-0289; FRL-9948-75-OAR]

Draft Guidance on Progress Tracking Metrics, Long-Term Strategies, Reasonable Progress Goals and Other Requirements for Regional Haze State Implementation Plans for the Second Implementation Period

AGENCY: Environmental Protection Agency (EPA).

ACTION: Notice of availability and public comment period.

SUMMARY: Notice is hereby given that the Environmental Protection Agency (EPA) has posted on its Web site a draft guidance document titled, “Draft Guidance on Progress Tracking Metrics, Long-Term Strategies, Reasonable Progress Goals and Other Requirements for Regional Haze State Implementation Plans for the Second Implementation Period.” The EPA invites the public to review and provide input on its draft guidance document during the comment period specified in the DATES section.

DATES: Comments must be received on or before August 22, 2016. Please refer to SUPPLEMENTARY INFORMATION for additional information on the comment period.

ADDRESSES: Submit your comments, identified by Docket ID No. EPA-HQ-OAR-2016-0289, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions and general guidance on making effective comments, please visit http://www2.epa.gov/dockets/commenting-epa-dockets.

FOR FURTHER INFORMATION CONTACT: For general questions concerning this draft guidance document, please contact Phil Lorang, U.S. EPA, Office of Air Quality Planning and Standards, Air Quality Policy Division, C539-04, Research Triangle Park, NC 27711, telephone (919) 541-5463, email at lorang.phil@epa.gov. For questions about section 5 of this draft guidance document, please contact Melinda Beaver, U.S. EPA, Office of Air Quality Planning and Standards, Air Quality Policy Division, C539-04, Research Triangle Park, NC 27711, telephone (919) 541-1062, email at beaver.melinda@epa.gov.

SUPPLEMENTARY INFORMATION:

I. Purpose

The purpose of the draft document on which the EPA is inviting public comment is to provide useful background information and guidance to states on how to develop and submit regional haze state implementation plans (SIPs) for the second implementation period (2018-2028), which under a proposed revision to the Regional Haze Rule published on May 4, 2016,¹ would be due by July 31, 2021. The required content of these SIPs is specified in 40 CFR 51.308(f), which has also been proposed for revision.²

¹ Protection of Visibility: Amendments to Requirements for State Plans: Proposed Rule, May 4, 2016, 81 FR 26942.

² For clarity for purposes of comment, the draft guidance document available for public comment is written as if the revisions of the Regional Haze Rule proposed in May 2016 have been finalized as proposed. If the final revisions to the Regional Haze Rule differ from this assumption, corresponding changes will be made in the final guidance document.

II. Instructions for Submitting Public Comments and Internet Web Site for Guidance Document Information

A. What should I consider as I prepare my comments for the EPA?

1. Submitting CBI. Do not submit this information to the EPA through www.regulations.gov or email. Clearly mark the part or all of the information that you claim to be CBI. For CBI in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Tiffany Purifoy, OAQPS CBI Officer, U.S. EPA, Office of Air Quality Planning and Standards, Mail Code C404-02, Research Triangle Park, NC 27711, telephone (919) 541-0878, email at purifoy.tiffany@epa.gov, Attention Docket ID No. EPA-HQ-OAR-2016-0289.

2. Tips for Preparing Your Comments. When submitting comments, remember to:

• Identify the draft guidance by docket number and other identifying information (subject heading, Federal Register date and page number).

• Follow directions.

• Explain why you agree or disagree; suggest alternatives and substitute language for your requested changes.

B. Where can I find additional information for this draft guidance?

The EPA has also established a Web site for this draft guidance at https://www.epa.gov/visibility. From this page, please click on “Guidance Documents.” The Web site provides related information that the public may find useful.

Dated: June 30, 2016.
Stephen Page,
Director, Office of Air Quality Planning and Standards.

[FR Doc. 2016-16131 Filed 7-7-16; 8:45 am]

BILLING CODE 6560-50-P